DEPARTMENT OF COMMERCE

National Oceanic and Atmospheric Administration

50 CFR Part 226

RIN 0648-BC56

Endangered and Threatened Species; Proposed Designation of Critical Habitat for the Arctic Ringed Seal; Public Hearings

AGENCY: National Marine Fisheries Service (NMFS), National Oceanic and Atmospheric Administration (NOAA), Commerce.

ACTION: Notice of public hearings.

SUMMARY: We, NMFS, announce the specific dates and locations for four public hearings in Alaska, one each in Nome, Anchorage, Kotzebue, and Barrow, on our proposed rule to designate critical habitat for the threatened Arctic subspecies (Phoca hispida hispida) of the ringed seal (Phoca hispida) under the Endangered Species Act (ESA), which published in the Federal Register on December 9, 2014. We also announce that a hearing will be held in Bethel, AK.

DATES: Written comments on the proposed rule must be received by March 9, 2015. For specific dates of the public hearings, see SUPPLEMENTARY INFORMATION.

ADDRESSES: Five public hearings will be held in Alaska, one each in Nome, Anchorage, Kotzebue, Barrow, and Bethel: For specific locations of these hearings, see SUPPLMENTARY INFORMATION.

You may submit written comments on the proposed rule, identified by NOAA-NMFS-2013-0114, by any one of the following methods:

• Electronic Submission: Submit all electronic public comments via the Federal e-Rulemaking Portal. Go to http://www.regulations.gov/#!docketDetail;D=NOAA-NMFS-2013-0114, click the “Comment Now!” icon, complete the required fields, and enter or attach your comments.

• Mail: Address written comments to Jon Kurland, Assistant Regional Administrator for Protected Resources, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on http://www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the proposed rule, list of references and supporting documents, and the draft economic report (i.e., Regulatory Impact Review (RIR)/4(b)(2) Preparatory Assessment/Initial Regulatory Flexibility Act (IRFA) report) prepared for this action are available from http://www.regulations.gov/#!docketDetail;D=NOAA-NMFS-2013-0114 or from the NMFS Alaska Region Web site at http://alaskafisheries.noaa.gov.

FOR FURTHER INFORMATION CONTACT: Tamara Olson, NMFS Alaska Region, (907) 271-2373; Jon Kurland, NMFS Alaska Region, (907) 586-7638; or Marta Nammack, NMFS Office of Protected Resources, (301) 427-8469.

SUPPLEMENTARY INFORMATION:

Background

On December 9, 2014, we published a proposed rule to designate critical habitat for the threatened Arctic ringed seal under the ESA (79 FR 73010). At that time, we opened a public comment period on the proposed rule through March 9, 2015, and announced that four public hearings will be held on the proposed rule in Alaska, one each in Anchorage, Barrow, Kotzebue, and Nome. In this notice, we announce the specific dates and locations for these four public hearings (see Public Hearing Schedule). We also announce that a fifth public hearing will be held in Bethel, AK.

Public Hearings

During each public hearing, a brief opening presentation on the proposed rule will be provided before accepting public testimony. Written comments may be submitted at the hearing or via the Federal e-Rulemaking Portal (see ADDRESSES) until the scheduled close of the comment period on March 9, 2015. In the event that attendance at the public hearings is large, the time allotted for oral statements may be limited. Oral and written statements receive equal consideration. There are no limits on the length of written comments submitted to us.

Public Hearing Schedule

The specific date and location for the hearing in Bethel, AK, will be announced in a subsequent Federal Register notice. The dates and locations for the other four hearings are as follows:

1. Nome: January 28, 2015, from 4 p.m. to 7 p.m. at Old St. Joe's, 407 Bering Street, Nome, AK.

2. Anchorage: February 2, 2015, 4 p.m. to 7 p.m. at the Z. J. Loussac Public Library, Wilda Marston Theatre, 3600 Denali Street, Anchorage, AK.

3. Kotzebue: February 17, 2015, 4 p.m. to 7 p.m., at the Northwest Arctic Borough Assembly Chambers, 163 Lagoon Street, Kotzebue, AK.

4. Barrow: February 23, 2015, 7 p.m. to 10 p.m., at the Iñupiat Heritage Center, 5421 North Star Street, Barrow, AK.

Special Accommodations

These hearings are physically accessible to people with disabilities. Requests for sign language interpretation or other accommodations should be directed to Tamara Olson (see ADDRESSES) as soon as possible, but no later than 7 business days prior to the hearing date.

Authority: 16 U.S.C. 1531 et seq.

Dated: January 7, 2015.
Donna S. Wieting,
Director, Office of Protected Resources, National Marine Fisheries Service.

[FR Doc. 2015-00368 Filed 1-12-15; 8:45 am]

BILLING CODE 3510-22-P